DEPARTMENT OF THE INTERIOR

Bureau of Indian Affairs

[K00621 1314 R3B30]

Final Environmental Impact Statement for the Cloverdale Rancheria of Pomo Indians' Proposed 65-Acre Fee-to-Trust Acquisition and Resort Casino Project, Sonoma County, California

AGENCY: Bureau of Indian Affairs, Interior.

ACTION: Notice of Availability.

SUMMARY: This notice advises the public that the Bureau of Indian Affairs (BIA) as lead agency, with the Cloverdale Rancheria of Pomo Indians (Tribe), National Indian Gaming Commission, Environmental Protection Agency (EPA), California Department of Transportation (Caltrans), Sonoma County, and City of Cloverdale as cooperating agencies, intends to file a final environmental impact statement (FEIS) with the EPA for the Tribe's application requesting that the United States acquire land in trust within Sonoma County, California, and that the FEIS is now available for public review.

DATES: The Record of Decision on the proposed action will be issued on or after 30 days from the date the EPA publishes its Notice of Availability in the Federal Register. Any comments on the FEIS must arrive on or before that date.

ADDRESSES: Mail or hand carry written comments to Amy Dutschke, Regional Director, Bureau of Indian Affairs, Pacific Region, 2800 Cottage Way, Sacramento, California 95825. See SUPPLEMENTARY INFORMATION for directions on submitting comments and the public availability of the FEIS.

FOR FURTHER INFORMATION CONTACT: John Rydzik, (916) 978-6051.

SUPPLEMENTARY INFORMATION: BIA prepared the FEIS to address the potential environmental effects of the United States acquiring six parcels in trust (totaling approximately 65 acres) for the benefit of the Tribe, as well as the subsequent development of a destination resort casino and supporting infrastructure on some of the parcels. Subsequent to the release of the Draft EIS (DEIS) one of the six parcels was removed from the fee-to-trust application (Assessor's Parcel Number 116-310-020). Under Alternatives A through D, this parcel was proposed to include a tribal government building with workspace and offices and an associated parking area. Upon review of the environmental impacts for the alternatives, the BIA determined that the removal of this parcel would not appreciably change the level of significance for the issues analyzed in this EIS, and thus the FEIS has not been altered to remove this parcel from the project site or impact analysis. However, it should be noted that this parcel, including the proposed tribal government building and associated parking area, are not included within the current fee-to-trust application.

The parcels within the current fee-to-trust application are located within unincorporated Sonoma County, California. The project site is situated immediately east of Highway 101 and borders Asti Road. Regional access to the project site is provided by Highway 101, with local access provided by South Cloverdale Boulevard via Highway 101. The project site is adjacent to the location of the Tribe's historic rancheria.

The proposed project (Alternative A) includes an 80,000 square-foot casino, 287,000 square-foot hotel with 244 rooms, 48,600 square-foot convention center, 28,100 square-foot entertainment center, 3,400 car garage and surface parking spaces, and other ancillary facilities. Buildings would have a height of up to two stories above grade with the exception of the hotel and parking garage which would have a height of up to five stories above grade.

Project alternatives considered in the FEIS include: Alternative A—Proposed Action; Alternative B—Reduced Hotel and Casino; Alternative C—Reduced Casino; Alternative D—Casino Only; Alternative E—Commercial Retail-Office Space; and Alternative F—No Action Alternative. Alternative A (i.e. the proposed fee-to-trust acquisition and resort casino project) has been selected as the Tribe's preferred alternative, as discussed in the FEIS. The information and analysis contained in the EIS, as well as its evaluation and assessment of the Tribe's preferred alternative, are intended to assist the review of the issues presented in the fee-to-trust application. The preferred alternative does not necessarily reflect what the final decision will be, because the Department must evaluate all of the criteria listed in 25 CFR part 151. The Department's consideration and analysis of the applicable regulations may lead to a final decision that selects an alternative other than the preferred alternative, including no action, or a variant of the preferred or another of the alternatives analyzed in the FEIS.

Environmental issues addressed in the FEIS include land resources, water resources, air quality, biological resources, cultural and paleontological resources, socioeconomic conditions, transportation, land use and agriculture, public services, noise, hazardous materials, visual resources, environmental justice, growth inducing effects, indirect effects, cumulative effects, and mitigation measures.

The BIA afforded other government agencies and the public extensive opportunity to participate in the preparation of this EIS. A Notice of Intent to prepare the EIS for the proposed action was published in the Federal Register on July 7, 2008. The BIA held a public scoping meeting on July 30, 2008, in the City of Cloverdale. A Notice of Availability for the DEIS was published in the Federal Register on August 6, 2010. The DEIS was available for public comment from August 6, 2010 to October 20, 2010. The BIA held a public hearing on the DEIS on September 16, 2010, in the City of Cloverdale.

Locations where the FEIS is Available for Review: The FEIS is available for public review at the Cloverdale Regional Library, 401 North Cloverdale Boulevard, Cloverdale, CA 95425 and at the Santa Rosa Central Library, 211 E Street, Santa Rosa, CA 95404. General information for the Cloverdale Regional Library can be obtained by calling (707) 894-5271 and the Santa Rosa Central Library by calling (707) 545-0831. An electronic version of the FEIS can also be viewed at the following Web site: http://www.cloverdalerancheria.com/eis.html.

Directions for Submitting Comments: Please include your name, return address, and the caption, “FEIS Comments, Cloverdale Rancheria of Pomo Indians' Fee-to-Trust and Resort Casino Project,” on the first page of your written comments and submit comments to the BIA address listed above in the ADDRESSES section of this notice.

To obtain a compact disk copy of the FEIS, please provide your name and address in writing or by voicemail to John Rydzik, Chief of the Division of Environmental, Cultural Resources Management and Safety, at the address listed in the ADDRESSES section of this notice, or at the telephone number listed in the FOR FURTHER INFORMATION CONTACT section of this notice. Note that individual paper copies of the FEIS will be provided only upon payment of applicable printing expenses by the requestor for the number of copies requested.

Public Comment Availability: Comments, including the names and addresses of respondents, will be available for public review at the BIA mailing address shown in the ADDRESSES section, during regular business hours, 8 a.m. to 4:30 p.m., Monday through Friday, except holidays. Before including your address, phone number, email address, or other personal identifying information in your comment, you should be aware that your entire comment—including your personal identifying information—may be made publicly available at any time. While you can ask us in your comment to withhold your personal identifying information from public review, we cannot guarantee that we will be able to do so.

Authority: This notice is published in accordance with the Council on Environmental Quality regulations (40 CFR 1500 et seq.) and the Department of the Interior regulations (43 CFR part 46) implementing the procedural requirements of the National Environmental Policy Act of 1969, as amended (42 U.S.C. 4371 et seq.), and is accordance with the exercise of authority delegated to the Assistant Secretary—Indian Affairs by part 209 of the Departmental Manual.

Dated: April 8, 2014.
Kevin Washburn,
Assistant Secretary—Indian Affairs.

[FR Doc. 2014-08514 Filed 4-17-14; 8:45 am]

BILLING CODE 4310-W7-P